DEPARTMENT OF COMMERCE

National Oceanic and Atmospheric Administration

RIN 0648-XD112

North Pacific Fishery Management Council; Public Meeting

AGENCY: National Marine Fisheries Service (NMFS), National Oceanic and Atmospheric Administration (NOAA), Commerce.

ACTION: Notice of a public meeting.

SUMMARY: The North Pacific Fishery Management Council's Scallop Plan Team (SPT) will meet by conference call in Homer, AK.

DATES: The meeting will be held February 25-26, 2014. The meeting will be held from 9 a.m. to 5 p.m. on the 25th and 9 a.m. to 1 p.m. on the 26th.

ADDRESSES: The meeting will be held at the Land's End Resort, 4786 Homer Spit Road, Harbor Room, Homer, AK 99603.

Council address: North Pacific Fishery Management Council, 605 W. 4th Avenue, Suite 306, Anchorage, AK 99501-2252.

FOR FURTHER INFORMATION CONTACT: Diana Stram, Council staff; telephone: (907) 271-2809.

SUPPLEMENTARY INFORMATION:

Agenda

The SPT will review the status of the statewide scallop stocks, discuss research priorities, receive updates on current research activities and compile the annual Stock Assessment and Fishery Evaluation (SAFE) report.

Although non-emergency issues not contained in this agenda may come before this group for discussion, those issues may not be the subject of formal action during the meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: February 4, 2014.
Tracey L. Thompson,
Acting Deputy Director, Office of Sustainable Fisheries, National Marine Fisheries Service.

[FR Doc. 2014-02675 Filed 2-6-14; 8:45 am]

BILLING CODE 3510-22-P